ENVIRONMENTAL PROTECTION AGENCY

[FRL-8546-6]

Underground Injection Control Program; Hazardous Waste Injection Restrictions; Petition for Exemption—Class I Hazardous Waste Injection; Veolia ES Technical Solutions, L.L.C., Port Arthur, TX

AGENCY: Environmental Protection Agency (EPA).

ACTION: Notice of Final Decision on a No Migration Petition Reissuance.

SUMMARY: Notice is hereby given that exemptions to the land disposal restrictions under the 1984 Hazardous and Solid Waste Amendments to the Resource Conservation and Recovery Act have been reissued to Veolia ES Technical Solutions, L.L.C., (Veolia) for two Class I injection wells located at Port Arthur, Texas. As required by 40 CFR Part 148, the company has adequately demonstrated to the satisfaction of the Environmental Protection Agency by the petition and supporting documentation that, to a reasonable degree of certainty, there will be no migration of hazardous constituents from the injection zone for as long as the waste remains hazardous. This final decision allows the underground injection by Veolia, of the specific restricted hazardous wastes identified in this exemption, into Class I hazardous waste injection wells Nos. WDW-160 and WDW-358 at the Port Arthur, Texas facility, until November 30, 2018, unless EPA moves to terminate these exemptions under provisions of 40 CFR 148.24. Additional conditions included in this final decision may be reviewed by contacting the Region 6 Ground Water/UIC Section. As required by 40 CFR 148.22(b) and 124.10, a public notice was issued January 17, 2008. The public comment period closed on March 3, 2008. No comments were received. This decision constitutes final Agency action and there is no Administrative appeal. This decision may be reviewed/appealed in compliance with the Administrative Procedure Act.

DATES: This action is effective as of March 14, 2008.

ADDRESSES: Copies of the petition and all pertinent information relating thereto are on file at the following location: Environmental Protection Agency, Region 6, Water Quality Protection Division, Source Water Protection Branch (6WQ-S), 1445 Ross Avenue, Dallas, Texas 75202-2733.

FOR FURTHER INFORMATION CONTACT: Philip Dellinger, Chief Ground Water/UIC Section, EPA—Region 6, telephone (214) 665-7150.

Dated: March 14, 2008.
Miguel I. Flores,
Division Director, Water Quality Protection Division (6WQ).

[FR Doc. E8-6209 Filed 3-25-08; 8:45 am]

BILLING CODE 6560-50-P